DEPARTMENT OF TRANSPORTATION

Federal Aviation Administration

14 CFR Part 71

[Docket No. FAA-2023-2377; Airspace Docket No. 23-AWA-6]

RIN 2120-AA66

Amendment of Class B Airspace Description; Cincinnati/Northern Kentucky International Airport, KY

AGENCY: Federal Aviation Administration (FAA), DOT.

ACTION: Final rule, technical amendment.

SUMMARY: This action amends the Cincinnati/Northern Kentucky International Airport, KY, Class B airspace area description by making editorial changes to three sub-area shelf boundaries of the Class B airspace from using the Cincinnati, KY, Very High Frequency Omnidirectional Range/Tactical Air Navigation (VORTAC) to a reference point. The reference point uses the same geographic coordinates as the Cincinnati VORTAC location listed in the existing description. Additionally, this action also removes the airport name from the airspace designation to comply with FAA regulatory guidance, updates the Airport Reference Point (ARP) geographic coordinates for the Cincinnati/Northern Kentucky International Airport to match the FAA National Airspace System Resource (NASR) database, and changes the Class B airspace center point from the Cincinnati/Northern Kentucky International Airport to “Point of Origin”. The point of origin uses the same geographic coordinates as the Cincinnati/Northern Kentucky International Airport listed in the existing description. Finally, this action makes minor edits to the sub-area descriptions for clarity and readability. These changes are editorial only and do not alter the current boundaries, altitudes, ATC procedures, or operating requirements for the Cincinnati/Northern Kentucky International Airport Class B airspace.

DATES: Effective date 0901 UTC, May 16, 2024. The Director of the Federal Register approves this incorporation by reference action under 1 CFR part 51, subject to the annual revision of FAA Order JO 7400.11 and publication of conforming amendments.

ADDRESSES: A copy of this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the National Airspace System as necessary to preserve the safe and efficient flow of air traffic.

History

On June 19, 2021, the Cincinnati VORTAC was struck by lightning and caught fire which destroyed the navigational aid facility. As a result, the FAA issued a Notice to Air Missions (NOTAM) that has listed the Cincinnati VORTAC as out-of-service since the lightning strike. The Cincinnati VORTAC outage affects three of the Cincinnati/Northern Kentucky International Airport Class B airspace sub-areas which use the VORTAC to describe their boundaries. To retain the accuracy of the Cincinnati/Northern Kentucky International Airport Class B airspace area, the FAA is removing the Cincinnati VORTAC references in the three affected sub-areas and using a reference point located at the same geographic coordinates listed for the VORTAC.

To overcome the lightning strike and Cincinnati VORTAC outage, the FAA plans to replace the destroyed Tactical Air Navigation (TACAN) and Distance Measuring Equipment (DME) equipment only. The VOR portion of the Cincinnati VORTAC is not planned for replacement as the VOR is one of the candidate VORs identified for discontinuance by the FAA's VOR MON program and listed in the final policy statement notice, “Provision of Navigation Services for the Next Generation Air Transportation System (NextGen) Transition to Performance-Based Navigation (PBN) (Plan for Establishing a VOR Minimum Operational Network),” published in the Federal Register on July 26, 2016 (81 FR 48694), Docket No. FAA-2011-1082. The FAA is planning to decommission the VOR portion of the Cincinnati VORTAC in February 2025.

As noted previously, the Cincinnati/Northern Kentucky International Airport Class B airspace description uses the Cincinnati VORTAC to describe three sub-area shelf boundaries. To ensure there will be no changes to the existing charted boundaries of the Cincinnati/Northern Kentucky International Airport Class B airspace area, the FAA is removing the Cincinnati VORTAC references and using a reference point located at the same geographic coordinates (lat. 39°00′57″ N, long. 084°42′12″ W) listed for the Cincinnati VORTAC in the description prior to this rule.

Additionally, the geographic coordinates for the Cincinnati/Northern Kentucky International Airport ARP are updated to “lat. 39°02′56″ N, long. 084°40′04″ W” to match the FAA's NASR database information. As a result of the Cincinnati/Northern Kentucky International Airport ARP moving northwest by approximately 1,900 feet, the FAA is changing the center point of the Class B airspace from the airport to a “Point of Origin” reference using the geographic coordinates “lat. 39°02′46″ N, long. 084°39′44″ W” that are listed for the Cincinnati/Northern Kentucky International Airport in the description prior to this rule.

Lastly, references to the Indiana-Ohio State Line used in the Class B airspace description are removed since the state line is not a prominent landmark easily identified from the air and replaced with the longitude coordinates that reflect the state line more accurately using digital charting technology tools today. The longitude information listed for the state line is changed from “long. 084°49′00″ W” to “long. 084°49′12″ W.”

Incorporation by Reference

Class B airspace designations are published in paragraph 3000 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends Title 14 Code of Federal Regulations (14 CFR) part 71 by making editorial changes to the Cincinnati/Northern Kentucky International Airport, KY, Class B airspace description. This action removes references to the Cincinnati VORTAC in three sub-area shelf boundaries (Areas B, C, and F) and replaces them with a reference point located at the same geographic coordinates for the Cincinnati VORTAC listed in the description prior to this rule. The Class B airspace boundaries affected by the Cincinnati VORTAC will remain unchanged and unaffected by replacing the Cincinnati VORTAC references to a reference point located at the Cincinnati VORTAC geographic coordinates.

Additionally, the Cincinnati/Northern Kentucky International Airport, KY, Class B airspace description title is updated by removing the airport name and state from the Class B airspace designation and only listing the city and state where the airport is located (Covington, KY) to comply with the FAA's regulatory guidance. The geographic coordinates for the Cincinnati/Northern Kentucky International Airport ARP are also updated from “lat. 39°02′46″ N, long. 084°39′44″ W” to “lat. 39°02′56″ N, long. 084°40′04″ W” to match the FAA's NASR database information. As a result of the ARP update to the Cincinnati/Northern Kentucky International Airport, the center point of the Class B airspace is changed from the airport to a “Point of Origin” using the geographic coordinates “lat. 39°02′46″ N, long. 084°39′44″ W” that match the geographic coordinates published for the Cincinnati/Northern Kentucky International Airport prior to this rule.

Lastly, references to the Indiana-Ohio State Line are removed and replaced with the longitude coordinates that reflect the state line more accurately using digital charting technology tools. The longitude information listed for the state line is changed from “long. 084°49′00″ W” to “long. 084°49′12″ W.” This removal of the state line reference and update of the longitude coordinates more accurately aligns with the Indiana-Ohio State Line and matches the currently charted boundaries that reference the state line. Further, minor editorial amendments are made to the Covington, KY, Class B airspace sub-area descriptions for clarity and readability.

Since this action merely involves minor editorial amendments in the Covington, KY, Class B airspace area description and does not change the charted boundaries, altitudes, ATC procedures, or operating requirements for the Class B airspace area, notice and public procedure under 5 U.S.C. 553(b) are unnecessary and contrary to the public interest.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action amending the Cincinnati/Northern Kentucky International Airport, KY, Class B airspace description qualifies for categorical exclusion under the National Environmental Policy Act, 42 U.S.C. 4321; its implementing regulations at 40 CFR part 1500; and its agency-specific implementing regulations in FAA Order 1050.1F, “Environmental Impacts: Policies and Procedures” regarding categorical exclusions for procedural actions at paragraph 5-6.5a, which categorically excludes from full environmental impact review rulemaking actions that designate or modify classes of airspace areas, airways, routes, and reporting points. This airspace action is an editorial change only and is not expected to result in any potentially significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, signed August 11, 2023, and effective September 15, 2023, is amended as follows:

Paragraph 3000 Class B Airspace.

* * * * *

ASO KY B Covington, KY

Cincinnati/Northern Kentucky International Airport, KY (Primary Airport)

(Lat. 39°02′56″ N, long. 084°40′04″ W)

Point of Origin

(Lat. 39°02′46″ N, long. 84°39′44″ W)

Area A. That airspace extending upward from the surface to and including 10,000 feet MSL within a 5-mile radius of the Point of Origin.

Area B. That airspace extending upward from 2,100 feet MSL to and including 10,000 feet MSL within the area bounded by a line beginning at the intersection of the 5-mile radius of the Point of Origin and the Kentucky bank of the Ohio River northeast of the airport; thence northeast along the Kentucky bank of the Ohio River to the 10-mile radius of the Point of Origin; thence clockwise along the 10-mile radius of the Point of Origin to the Kentucky bank of the Ohio River southwest of the airport; thence north along the Kentucky bank of the Ohio River to long. 084°49′12″ W; thence north along long. 084°49′12″ W to Interstate 275; thence northeast along Interstate 275 to Interstate 74; thence east along Interstate 74 to the 040° bearing from a point located at lat. 39°00′57″ N, long. 084°42′12″ W; thence southwest along the 040° bearing from the point located at lat. 39°00′57″ N, long. 084°42′12″ W to the 5-mile radius of the Point of Origin; thence counterclockwise along the 5-mile radius of the Point of Origin to the point of beginning.

Area C. That airspace extending upward from 3,000 feet MSL to and including 10,000 feet MSL within the area bounded by a line beginning at the intersection of Interstate 275 and long. 084°49′12″ W; thence north along long. 084°49′12″ W to intersect the 20-mile radius of the Point of Origin; thence clockwise along the 20-mile radius of the Point of Origin to intersect the extended Runway 18L ILS localizer course; then south along the extended Runway 18L ILS localizer course to the 15-mile radius of the Point of Origin; thence clockwise along the 15-mile radius of the Point of Origin to long. 084°30′00″ W; thence south along long. 084°30′00″ W to the 10-mile radius of the Point of Origin; thence clockwise along the 10-mile radius of the Point of Origin to the Kentucky bank of the Ohio River; thence west along the Kentucky bank of the Ohio River to the 5-mile radius of the Point of Origin; thence counterclockwise along the 5-mile radius of the Point of Origin to the 040° bearing from a point located at lat. 39°00′57″ N, long. 084°42′12″ W; thence northeast along the 040° bearing from the point located at lat. 39°00′57″ N, long. 084°42′12″ W to Interstate 74; thence west along Interstate 74 to Interstate 275; thence west along Interstate 275 to the point of beginning. That airspace beginning at the intersection of the 10-mile radius southeast of the Point of Origin and long. 084°30′00″ W; thence south along long. 084°30′00″ W to the 15-mile radius of the Point of Origin; thence clockwise along the 15-mile radius of the Point of Origin to intersect the extended Runway 36R ILS localizer course; thence south along the extended Runway 36R ILS localizer course to the 20-mile radius of the Point of Origin, thence clockwise along the 20-mile radius of the Point of Origin to long. 084°49′00″ W; thence north along long. 084°49′00″ W to the Kentucky bank of the Ohio River; thence north along the Kentucky bank of the Ohio River to the 10-mile radius of the Point of Origin; thence counterclockwise along the 10-mile radius of the Point of Origin to the point of beginning.

Area D. That airspace extending upward from 3,500 feet MSL to and including 10,000 feet MSL within the area bounded by a line beginning at the intersection of lat. 39°09′18″ N and the 10-mile radius northeast of the Point of Origin; thence east along lat. 39°09′18″ N to the 15-mile radius of the Point of Origin; thence clockwise along the 15-mile radius of the Point of Origin to lat. 38°56′15″ N; thence west along lat. 38°56′15″ N to the 10-mile radius of the Point of Origin; thence counterclockwise along the 10-mile radius of the Point of Origin to the point of beginning. That airspace beginning at the intersection of the Kentucky bank of the Ohio River and lat. 38°56′15″ N southwest of the Point of Origin; thence west along lat. 38°56′15″ N to the 15-mile radius of the Point of Origin; thence clockwise along the 15-mile radius of the Point of Origin to lat. 39°09′18″ N; thence east along lat. 39°09′18″ N to long. 084°49′12″ W; thence south along long. 084°49′12″ W to the Kentucky bank of the Ohio River; thence south along the Kentucky bank of the Ohio River to the point of beginning. That airspace beginning at the intersection of the 15-mile radius north of the Point of Origin and the extended ILS Runway 18L localizer course; thence north along the extended ILS Runway 18L localizer course to the 20-mile radius of the Point of Origin; thence clockwise along the 20-mile radius of the Point of Origin to long. 084°30′00″ W; thence south along long. 084°30′00″ W to the 15-mile radius of the Point of Origin; thence counterclockwise along the 15-mile radius of the Point of Origin to the point of beginning. That airspace beginning at the intersection of the 15-mile radius south of the Point of Origin and the extended ILS Runway 36R localizer course; thence south along the extended ILS Runway 36R localizer to the 20-mile radius of the Point of Origin; thence counterclockwise along the 20-mile radius of the Point of Origin to long. 084°30′00″ W; thence north along long. 084°30′00″ W to the 15-mile radius of the Point of Origin; thence clockwise along the 15-mile radius of the Point of Origin to the point of beginning.

Area E. That airspace extending upward from 4,000 feet MSL to and including 10,000 feet MSL within the area bounded by a line beginning at the intersection of the 20-mile radius northwest of the Point of Origin and long. 084°49′12″ W; thence north along long. 084°49′12″ W to the 25-mile radius of the Point of Origin; thence clockwise along the 25-mile radius of the Point of Origin to long. 084°30′00″ W; thence south along long. 084°30′00″ W to the 20-mile radius of the Point of Origin; thence counterclockwise along the 20-mile radius of the Point of Origin to the point of beginning. That airspace beginning at the intersection of the 20-mile radius southeast of the Point of Origin and long. 084°30′00″ W; thence south along long. 084°30′00″ W to the 25-mile radius of the Point of Origin; thence clockwise along the 25-mile radius of the Point of Origin to long. 084°49′00″ W; thence north along long. 084°49′00″ W to the 20-mile radius of the Point of Origin; thence counterclockwise along the 20-mile radius of the Point of Origin to the point of beginning.

Area F. That airspace extending upward from 5,000 feet MSL to and including 10,000 feet MSL within the area bounded by a line beginning at the intersection of the 25-mile radius north of the Point of Origin and long. 084°30′00″ W; thence clockwise along the 25-mile radius of the Point of Origin to the 056° bearing from a point located at lat. 39°00′57″ N, long. 084°42′12″ W; thence southwest along the 056° bearing of the point located at lat. 39°00′57″ N, long. 084°42′12″ W to the 20-mile radius of the Point of Origin; thence clockwise along the 20-mile radius of the Point of Origin to the 116° bearing from a point located at lat. 39°00′57″ N, long. 084°42′12″ W; thence southeast along the 116° bearing from a point located at lat. 39°00′57″ N, long. 084°42′12″ W to the 25-mile radius of the Point of Origin; thence clockwise along the 25-mile radius of the Point of Origin to long. 084°30′00″ W; thence north along long. 084°30′00″ W to the intersection of the 10-mile radius of the Point of Origin and lat. 38°56′15″ N; thence east along lat. 38°56′15″ N to the 15-mile radius of the Point of Origin; thence counterclockwise along the 15-mile radius of the Point of Origin to lat. 39°09′18″ N; thence west along lat. 39°09′18″ N to the intersection of the 10-mile radius of the Point of Origin and long. 084°30′00″ W; thence north along long. 084°30′00″ W to the point of beginning. That airspace beginning at the intersection of the 25-mile radius north of the Point of Origin and long. 084°49′12″ W; thence counterclockwise along the 25-mile radius of the Point of Origin to the 297° bearing from a point located at lat. 39°00′57″ N, long. 084°42′12″ W; thence southeast along the 297° bearing from the point located at lat. 39°00′57″ N, long. 084°42′12″ W to the 20-mile radius of the Point of Origin; thence counterclockwise along the 20-mile radius of the Point of Origin to the 247° bearing from a point located at lat. 39°00′57″ N, long. 084°42′12″ W; thence southwest along the 247° bearing from a point located at lat. 39°00′57″ N, long. 084°42′12″ W to the 25-mile radius of the Point of Origin; thence counterclockwise along the 25-mile radius of the Point of Origin to long. 084°49′00″ W; thence north along long. 084°49′00″ W to the Kentucky bank of the Ohio River; thence north along the Kentucky bank of the Ohio River to lat. 38°56′15″ N; thence west along lat. 38°56′15″ N to the 15-mile radius of the Point of Origin; thence clockwise along the 15-mile radius of the Point of Origin to lat. 39°09′18″ N; thence east along lat. 39°09′18″ N to long. 084°49′12″ W; thence north along long. 084°49′12″ W to the point of beginning.

* * * * *

Issued in Washington, DC, on February 28, 2024.
Frank Lias,
Manager, Rules and Regulations Group.

[FR Doc. 2024-04610 Filed 3-4-24; 8:45 am]

BILLING CODE 4910-13-P